DEPARTMENT OF TRANSPORTATION

Federal Aviation Administration

[Docket No. FAA-2006-25695]

Notice of a Proposed Change in Monitor Status of Air Navigational Aids at Two Airports

AGENCY: Federal Aviation Administration (FAA), DOT.

ACTION: Request for public comment.

SUMMARY: The Federal Aviation Administration (FAA) is requesting public comment on a proposal to change the monitor status of air navigational aids (NAVAIDS) at two (2) airports.

The NAVAIDS are currently monitored by Automated Flight Service Stations (AFSS) in Florida and Wyoming that were formerly operated by the FAA. Since October 4, 2005 these AFSS sites have been operating under a Federal Contract with Lockheed Martin Corporation. During the early stages of the contracting process, the FAA determined that monitoring of NAVAIDS was not part of the mission of flight service stations and therefore was not included in the contract.

Neither of the NAVAIDS are part of a published instrument approach into an airport. The proposed time for the N AVAIDS to become unmonitored is 30 days prior to the date the respective AFSS site closes for consolidation into a Lockheed Martin FS-21 site.

The Non-Directional Beacons (NDB) that are proposed to become unmonitored are: Antelope (AOP) NDB, Rock Springs, Wyoming; and Vero Beach (VEP) NDB, Vero Beach, Florida.

DATES: Comments must be received by September 29, 2006.

ADDRESSES: Written comments may be submitted [identified by Docket Number FAA-2006-25695] using any of the following methods:

• DOT Docket Web site: Go to http://dms.dot.gov and follow the instructions for sending your comments electronically.

• Mail: Docket Management Facility; U.S. Department of Transportation, 400 Seventh Street, SW., Nassif Building, Room PL-401, Washington, DC 20590.

• Fax: 1-202-493-2251.

• Hand Delivery: Room PL-401 on the plaza level of the Nassif Building, 400 Seventh Street, SW., Washington, DC, between 9 a.m. and 5 p.m., Monday through Friday, except Federal holidays.

Privacy: All comments received will be posted, without change, to http://dms.dot.gov, including any personal information you provide (such as signatures on behalf of an association, business, labor union, or any other group). You may review DOT's complete Privacy Act Statement in the Federal Register published on April 11, 2000 (65 FR 19477-78) or by visiting http://dms.dot.gov.

Docket: To read the comments received, go to http://dms.dot.gov at any time or to Room PL-401 on the plaza level of the Nassif Building, 400 Seventh Street, SW., Washington, DC, between 9 a.m. and 5 p.m., Monday through Friday, except Federal holidays.

FOR FURTHER INFORMATION CONTACT: Jeanne Giering, Manager, Flight Services Operations Procedures and Safety; Mail Drop: 1575 Eye Street, NW., Room 9400; 800 Independence Avenue, SW., Washington, DC 20591; telephone (202) 385-7627; fax (202) 385-7617; e-mail Jeanne.Giering@faa.gov.

SUPPLEMENTARY INFORMATION:

Comments Invited

The FAA invites interested persons or organizations to submit written comments or views concerning this proposal. Please reference the Docket Number at the beginning of your comments. Comments should be specific and should explain the reason for your concurrence or non-concurrence with the proposal, including supporting data.

Please send two (2) copies of your comments to one of the addresses listed in the ADDRESSES section of this document.

All comments submitted will be available for public viewing either in person or online, including any personal information you provide. Please refer to the PRIVACY section of this document.

Issued in Washington, DC, on August 21, 2006.
John T. Staples,
Director, Flight Services Program Operations Office.

[FR Doc. 06-7252 Filed 8-29-06; 8:45 am]

BILLING CODE 4910-13-M